ENVIRONMENTAL PROTECTION AGENCY

[FRL-7657-1]

Notice of Proposed Administrative Order on Consent Pursuant to Section 122(g)(4) of the Comprehensive Environmental Response Compensation, and Liability Act (CERCLA), PCB Treatment, Inc. Superfund Site, Kansas City, KS, and Kansas City, MO, Docket No. 07-2004-0023

AGENCY: Environmental Protection Agency.

ACTION: Notice.

SUMMARY: Notice is hereby given that a proposed administrative order on consent between six potentially responsible parties (Respondents) at the PCB Treatment, Inc. Superfund Site (Site) and the United States Environmental Protection Agency (EPA) was signed by the EPA on January 21, 2004, and approved by the United States Department of Justice (DOJ) on April 14, 2004. The Respondents are: District of Columbia/Blue Plains Waste Water Treatment, East Point Electric, Flowserv Corporation, Newberry Water and Light, St. Rose Convent, and Tilton Terrace.

DATES: EPA will receive, for a period of thirty (30) days from the date of this publication, comments relating to the proposed agreement.

ADDRESSES: Comments should be addressed to Audrey Asher, Senior Assistant Regional Counsel, United States Environmental Protection Agency, Region VII, 901 N. Fifth Street, Kansas City, Kansas 66101 and should refer to the PCB Treatment, Inc. Superfund Site Administrative Order on Consent, CERCLA Docket No. 07-2004-0023.

The proposed agreement may be examined or obtained in person or by mail at the office of the United States Environmental Protection Agency, Region VII, 901 North Fifth Street, Kansas City, KS 66101 (913) 551-7255.

SUPPLEMENTARY INFORMATION: The Site consists of two facilities, about two miles apart, located in the industrial areas of Kansas City, Kansas at 45 Ewing Street and Kansas City, Missouri at 2100 Wyandotte Street. The facilities were formerly operated by PCB Treatment, Inc., now a defunct corporation. Between 1982 and 1987, PCB Treatment, Inc. and its subsidiaries or affiliates treated and stored PCBs contained in used transformers, capacitors, oil, equipment, and other materials at the Wyandotte facility and the Ewing facility. During its period of operations, spills of PCB contaminated waste occurred.

Samples collected at the Site in the late 1990s indicated that the PCB contamination at Ewing Street exceeded 1,790 parts per million (ppm) in the building and 1,450 ppm in the soils. At Wyandotte Street, the PCB contamination exceeded 23,800 ppm in the building and 800 ppm in the soils.

Over 1000 parties arranged for disposal of PCB wastes at the Site. EPA identified a large number of these parties, including the Respondents, as de minimis parties. EPA offered settlements to the de minimis parties based on their allocated share of the waste plus a premium. EPA previously settled with 542 de minimis parties. Through this settlement, and subject to certain reopeners, EPA covenants not to sue Respondents for injunctive relief or response costs concerning the Site. In addition, Respondents receive contribution protection for matters addressed in the settlement.

Settlement funds received through this proposed administrative order on consent, totaling $301,969.53, will be placed in the special account for the Site, with the other de minimis settlement funds, and used, primarily, to pay for cleanup of the Site.

Dated: April 21, 2004.
Mark Hague,
Acting Regional Administrator, United States Environmental Protection Agency, Region VII.

[FR Doc. 04-10457 Filed 5-6-04; 8:45 am]

BILLING CODE 6560-50-P